DEPARTMENT OF COMMERCE

Submission for OMB Review; Comment Request

The Department of Commerce (DOC) will submit to the Office of Management and Budget (OMB) for clearance the following proposal for collection of information under the provisions of the Paperwork Reduction Act (44 U.S.C. Chapter 35).

Agency: Bureau of Economic Analysis (BEA), Commerce.

Title: Expenditures Incurred by Recipients of Biomedical Research Awards from the National Institutes of Health (NIH).

OMB Control Number: 0608-0069.

Form Number: None.

Type of Request: Regular submission (extension of a currently approved information collection).

Number of Respondents: 120.

Average Hours per Response: 16 hours is the average, but may vary among respondents because of differences in institution structure, size, and complexity.

Estimated Total Annual Burden Hours: 1,920 hours.

Needs and Uses: The survey obtains the distribution of expenditures incurred by recipients of biomedical research awards from the National Institutes of Health (NIH) and will provide information on how the NIH award amounts are expended across several major categories. This information, along with wage and price data from other published sources, will be used to generate the Biomedical Research and Development Price Index (BRDPI). The Bureau of Economic Analysis (BEA) of the Department of Commerce develops this index for NIH under a reimbursable contract. The BRDPI is an index of prices paid for the labor, supplies, equipment, and other inputs required to perform the biomedical research the NIH supports in its intramural laboratories and through its awards to extramural organizations. The BRDPI is a vital tool for planning the NIH research budget and analyzing future NIH programs. A survey of award recipients is currently the only means for updating the expenditure categories weights that are used to prepare the BRDPI.

A survey questionnaire with a cover letter that includes a brief description of, and rationale for, the survey will be sent to potential respondents by the first week of October in 2014 and by August of 2015 and 2016. A report of the respondent's expenditures of the NIH award amounts, including NIH awards received as a sub-recipient from another institution, following the proposed format for expenditure categories attached to the survey's cover letter, will be requested to be returned no later than December 8, which in most years will be approximately 120 days after mailing. Survey respondents will be selected on the basis of award levels, which determine the weight of the respondent in the biomedical research and development price index. BEA proposes to survey 150 organizations that receive NIH biomedical research awards. This will include the top 100 organizations in total awards received; 40 additional organizations that are not primarily in the “Research and Development (R&D) contracts” category; and 10 additional organizations that are primarily in the “R&D contracts” category. Based on awards data for FY 2009 by type of organization, the top 100 organizations received $16.2 billion in awards (approximately 73 percent of total awards); the remaining awards-receiving organizations received $6.0 billion.

Affected Public: Universities or other organizations that are NIH award recipients.

Frequency: Annual.

Respondent's Obligation: Voluntary.

Legal Authority: 45 CFR subpart C, Post-Award Requirements, sections 74.21 and 74.53; 42 U.S.C. 282; Economy Act (31 U.S.C. 1535 and 1536); and 15 U.S.C. 1525.

This information collection request may be viewed at www.reginfo.gov. Follow the instructions to view Department of Commerce collections currently under review by OMB.

Written comments and recommendations for the proposed information collection should be sent within 30 days of publication of this notice to OIRA Submission@omb.eop.gov or faxed to (202) 395-5806.

Dated: August 5, 2014.
Glenna Mickelson,
Management Analyst, Office of the Chief Information Officer.

[FR Doc. 2014-18773 Filed 8-7-14; 8:45 am]

BILLING CODE 3510-EA-P